DEPARTMENT OF EDUCATION

[Docket No.: ED-2023-SCC-0129]

Agency Information Collection Activities; Submission to the Office of Management and Budget for Review and Approval; Comment Request; Teacher Education Assistance for College and Higher Education Grant Program (TEACH Grant Program) Service Obligation Certification and Suspension Request Forms

AGENCY: Federal Student Aid (FSA), Department of Education (ED).

ACTION: Notice.

SUMMARY: In accordance with the Paperwork Reduction Act (PRA) of 1995, the Department is proposing a revision of a currently approved information collection request (ICR).

DATES: Interested persons are invited to submit comments on or before October 18, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Education Assistance for College and Higher Education Grant Program (TEACH Grant Program) Service Obligation Certification and Suspension Request Forms.

OMB Control Number: 1845-0158.

Type of Review: A revision of a currently approved ICR.

Respondents/Affected Public: Individuals and households.

Total Estimated Number of Annual Responses: 54,495.

Total Estimated Number of Annual Burden Hours: 17,982.

Abstract: The U.S. Department of Education (the Department) is requesting a revision of the Teacher Education Assistance for College and Higher (TEACH) Grant Certification of Qualifying Teaching (Certification), and five Service Obligation Suspension Requests (Suspension Requests) currently approved under OMB No. 1845-0158. Under conditions that are specified in the TEACH Grant Program regulations, a grant recipient may request and receive a temporary suspension of the eight-year period for completing the service obligation, and a grant recipient who is subject to an extended call to active-duty military service may receive a discharge of some or all of the four-year service obligation. The requested revision to the information collection does not change the current number of respondents, responses, or burden hours. The only substantive proposed change is in the Certification. We have also made a minor conforming change in the TEACH Grant Service Obligation Suspension Request: Enrollment in a Qualifying Program or Completing Teacher Licensure Requirements form and minor formatting change to the TEACH Grant Service Obligation Suspension/Discharge Request: Military Service. We are otherwise proposing no substantive changes to the Certification and Suspension forms included with this submission.

Dated: September 13, 2023.
Kun Mullan,
PRA Coordinator, Strategic Collections and Clearance, Governance and Strategy Division, Office of Chief Data Officer, Office of Planning, Evaluation and Policy Development.

[FR Doc. 2023-20124 Filed 9-15-23; 8:45 am]

BILLING CODE 4000-01-P